DEPARTMENT OF ENERGY

Environmental Management Site-Specific Advisory Board, Hanford

AGENCY: Office of Environmental Management, Department of Energy.

ACTION: Notice of open meeting: Correction.

SUMMARY: The Department of Energy (DOE) published in the Federal Register on October 13, 2015, a notice of an open meeting for the Environmental Management Site Specific Advisory Board (EM SSAB), Hanford. The notice is being corrected to add an additional date to the meeting. Agenda items will stay the same.

Correction

In the Federal Register of October 13, 2015, in FR DOC. 2015-25982, on pages 61402 and 61403, please make the following corrections:

In the DATES heading, third column, first paragraph, second line, please add, “Thursday, November 5, 2015, 9:00 a.m.-12:00 p.m.”

Issued in Washington, DC, on October 15, 2015.
LaTanya R. Butler,
Deputy Committee Management Officer.

[FR Doc. 2015-26742 Filed 10-20-15; 8:45 am]

BILLING CODE 6450-01-P